DEPARTMENT OF COMMERCE

National Oceanic and Atmospheric Administration

[RTID 0648-XD969]

North Pacific Fishery Management Council; Public Meetings

AGENCY: National Marine Fisheries Service (NMFS), National Oceanic and Atmospheric Administration (NOAA), Commerce.

ACTION: Notice of hybrid conference meetings.

SUMMARY: The North Pacific Fishery Management Council (Council) and its advisory committees will meet June 3, 2024, through June 12, 2024, in Kodiak, AK.

DATES: The Council's Scientific and Statistical Committee (SSC) will begin at 8 a.m. on Monday, June 3, 2024, and continue through Tuesday, June 4, 2024. The Council's Advisory Panel (AP) will begin at 8 a.m. on Tuesday, June 4, 2024, and again on Friday, June 7, 2024, through Sunday, June 9, 2024. The Council, SSC, and AP will participate in the Climate Scenario Workshop all day on Wednesday, June 5, 2024, and Thursday, June 6, 2024. The Council will begin at 8 a.m. on Friday, June 7, 2024, and continue through Wednesday, June 12, 2024. All times listed are Alaska Time.

ADDRESSES: The meetings will be a hybrid conference. The in-person component of the meeting will be held at the Kodiak Marketplace, 111 W Rezanof Drive, Kodiak, AK 99615, or join the meeting online through the links at https://www.npfmc.org/upcoming-council-meetings.

Council address: North Pacific Fishery Management Council, 1007 W 3rd Ave., Suite 400, Anchorage, AK 99501-2252; telephone: (907) 271-2809. Instructions for attending the meeting via webconference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Monday, June 3, 2024, Through Tuesday, June 4, 2024

The SSC agenda will include the following issues:

(1) Observer Annual Report for 2023

(2) Bering Sea and Aleutian Island (BSAI) Crab harvest specifications—AIGKC (Aleutian Island Gold King Crab) Stock Assessment and Fishery Evaluation (SAFE) report, acceptable biological catch and overfishing limits (ABC/OFLs), Plan Team report

(3) Small Sablefish Release—initial review

(4) BSAI Crab Program Review—review report (T)

The SSC will also meet in Executive Session on Monday morning, to discuss internal administrative issues. The agenda is subject to change, and the latest version will be posted at https://meetings.npfmc.org/Meeting/Details/3047 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, June 4, 2024, and Friday, June 7, 2024, Through Sunday, June 9, 2024

The Advisory Panel agenda will include the following issues:

(1) Observer Annual Report for 2023

(2) BSAI Crab harvest specifications—AIGKC SAFE report, ABC/OFLs, Plan Team report

(3) Unobserved Fishing Mortality Workgroup—review report

(4) Small Sablefish Release—initial review

(5) BSAI Crab Program Review—review report

(6) Central Gulf of Alaska (GOA) Rockfish Program Review—review workplan

(7) Research Priorities—adopt 5-year research priorities

(8) BSAI Pot Cod Limited Access Privilege Program (LAPP)—review discussion paper

(9) Staff Tasking

The agenda is subject to change, and the latest version will be posted at https://meetings.npfmc.org/Meeting/Details/3046 prior to the meeting, along with meeting materials.

Wednesday, June 5, 2024, Through Thursday, June 6, 2024

The Climate Scenario Workshop agenda will include presentations and discussion on the following topics:

(1) The definition of climate readiness, and opportunities for building climate readiness in the Council process.

(2) Case studies of climate change impacts to Alaska fisheries.

(3) An introduction to the approach of climate scenario planning, and four hypothetical scenarios that will be discussed during breakout sessions.

(4) Breakout discussions to explore the four hypothetical scenarios in depth and generate ideas for approaches the Council could take to build resilience and meet management objectives across a range of possible futures.

(5) Opportunities for ecosystem-based management approaches and information to support climate readiness.

(6) Wrap-up discussions to share highlights from breakout sessions and consider potential next steps.

The agenda is subject to change, and the latest version will be posted at https://meetings.npfmc.org/Meeting/Details/3049 prior to the meeting, along with meeting materials.

Friday, June 7, 2024, Through Wednesday, June 12, 2024

The Council agenda will include the following issues. The Council may take appropriate action on any of the issues identified.

(1) B Reports (Executive Director, NMFS Management, NOAA General Counsel (GC), NOAA Enforcement Report, Alaska Fishery Science Center (AFSC), Alaska Department of Fish and Game (ADF&G), United States Coast Guard (USCG), United States Fish and Wildlife Service (USFWS), North Pacific Research Board, Advisory Panel, SSC report)

(2) Observer Annual Report for 2023

(3) BSAI Crab harvest specifications—AIGKC SAFE report, ABC/OFLs, Plan Team report

(4) Unobserved Fishing Mortality Workgroup—review report

(5) Area 4 Vessel Caps—Initial Review

(6) Small Sablefish Release—initial review

(7) BSAI Crab Program Review—review report

(8) Central GOA Rockfish Program Review—review workplan

(9) BSAI Pot Cod LAPP—review discussion paper

(10) Research Priorities—adopt 5-year research priorities

(11) Staff Tasking

The Council will also meet in Executive Session on Friday morning and Saturday afternoon, to discuss internal administrative issues. The agenda is subject to change, and the latest version will be posted at https://meetings.npfmc.org/Meeting/Details/3046 prior to the meeting, along with meeting materials.

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting, to avoid any potential for technical difficulties to compromise oral testimony. The written comment period is open from May 10, 2024, to May 31, 2024, and closes at 12 p.m. Alaska time on Friday, May 31, 2024.

Although other non-emergency issues not on the agenda may come before these groups for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Authority: 16 U.S.C. 1801 et seq.

Dated: May 14, 2024.
Rey Israel Marquez,
Acting Deputy Director, Office of Sustainable Fisheries, National Marine Fisheries Service.

[FR Doc. 2024-10854 Filed 5-16-24; 8:45 am]

BILLING CODE 3510-22-P